DEPARTMENT OF TRANSPORTATION

Federal Highway Administration

[Docket No. FHWA-2008-0044]

Agency Information Collection Activities; Request for Comments; Renewed Approval of a Previously Approved Information Collection; Environmental Streamlining: Measuring the Performance of Stakeholders in the Transportation Project Development Process II

AGENCY: Federal Highway Administration (FHWA), DOT.

ACTION: Notice and request for comments.

SUMMARY: The FHWA invites public comments about our intention to request the Office of Management and Budget's (OMB) approval to renew an information collection, which is summarized below under Supplementary Information. We are required to publish this notice in the Federal Register by the Paperwork Reduction Act of 1995.

DATES: Please submit comments by May 27, 2008.

ADDRESSES: You may submit comments identified by DOT DMS Docket Number FHWA-2008-0044 by any of the following methods:

Web site: http://dms.dot.gov. Follow the instructions for submitting comments on the Department of Transportation Docket Management System electronic docket site.

Fax: 1-202-493-2251.

Mail: Docket Management Facility, U.S. Department of Transportation, 1200 New Jersey Avenue, SE., West Building Ground Floor, Room W12-140, Washington, DC 20590.

Hand Delivery: U.S. Department of Transportation, 1200 New Jersey Avenue, SE., West Building Ground Floor, Room W12-140, Washington, DC 20590, between 9 a.m. and 5 p.m., Monday through Friday, except Federal holidays.

Docket: For access to the docket to read background documents or comments received, go to http://dms.dot.gov at any time or to U.S. Department of Transportation, 1200 New Jersey Avenue, SE., Washington, DC 20590, between 9 a.m. and 5 p.m., Monday through Friday, except Federal holidays.

FOR FURTHER INFORMATION CONTACT: Mr. Kreig Larson, 202-366-2056, Planning and Environment, Federal Highway Administration, Department of Transportation, 1200 New Jersey Ave., Washington, DC 20590. Office hours are from 7 a.m. to 4:30 p.m., Monday through Friday, except Federal holidays

SUPPLEMENTARY INFORMATION: Title: Environmental Streamlining: Measuring the Performance of Stakeholders in the Transportation Project Development Process II.

Background: The U.S. Department of Transportation (DOT), FHWA, has contracted with the Gallup Organization to conduct a survey of professionals associated with transportation and resource agencies in order to gather their views about the workings of the environmental review process for transportation projects and how the process can become more efficient. The purpose of the survey is to: (1) Collect the responses of agency professionals to questions about their involvement in conducting the decision-making processes mandated by the National Environmental Policy Act (NEPA) and other resource protection laws in order to develop benchmark performance measures; and (2) identify where the performance of the process might be improved by the application of techniques for streamlining. This is a survey conducted of only local, state, and federal officials who work with the NEPA process.

Respondents: Approximately 2,000 professionals/officials from transportation and natural resource agencies.

Frequency: This is the third time this survey has been conducted over a period of seven years.

Estimated Total Annual Burden Hours: The FHWA estimates that each respondent will complete the survey in approximately 15 minutes. Respondents will have the option of answering the survey's questions either over the telephone or online. With a potential total of 2,000 survey respondents, an estimated 500 burden hours are expected for this project.

Public Comments Invited: You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. The agency will summarize and/or include your comments in the request for OMB's clearance of this information collection.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

Authority: The Paperwork Reduction Act of 1995; 44 U.S.C. Chapter 35, as amended; and 49 CFR 1.48.

Issued On: March 21, 2008.
Original signed by:
Judith Kane,
Team Leader, Management Programs and Analysis Division.

[FR Doc. E8-6318 Filed 3-27-08; 8:45 am]

BILLING CODE 4910-22-P